DEPARTMENT OF THE INTERIOR

National Park Service

[NPS-WASO-NAGPRA-NPS0039349; PPWOCRADN0-PCU00RP14.R50000]

Notice of Intended Disposition: U.S. Army Corps of Engineers, Tulsa District, Tulsa, OK

AGENCY: National Park Service, Interior.

ACTION: Notice.

SUMMARY: In accordance with the Native American Graves Protection and Repatriation Act (NAGPRA), the U.S. Army Corps of Engineers, Tulsa District (USACE Tulsa) intends to carry out the disposition of human remains and associated funerary objects removed from Federal or Tribal lands to the lineal descendants, Indian Tribe, or Native Hawaiian organization with priority for disposition in this notice.

DATES: Disposition of the human remains and associated funerary objects in this notice may occur on or after February 18, 2025. If no claim for disposition is received by January 20, 2026, the human remains and associated funerary objects in this notice will become unclaimed human remains or cultural items.

ADDRESSES: Jacqueline Rodgers, U.S. Army Corps of Engineers, Tulsa District, 2488 East 81st Street, Tulsa, OK 74137, telephone (918) 669-4964, email jacqueline.rodgers@usace.army.mil.

SUPPLEMENTARY INFORMATION: This notice is published as part of the National Park Service's administrative responsibilities under NAGPRA. The determinations in this notice are the sole responsibility of the USACE Tulsa, and additional information on the human remains and associated funerary objects in this notice, including the results of consultation, can be found in the related records. The National Park Service is not responsible for the identifications in this notice.

Abstract of Information Available

Based on the information available, human remains representing, at least, one individual have been reasonably identified. The one lot of associated funerary objects consist of coffin hardware. In the 1870s, the Kaw Nation founded the community of Washunga along the Arkansas River in what became Kay County, Oklahoma. The Washunga Cemetery was established was in use from approximately 1872 until the 1970s. In the 1970s USACE Tulsa relocated known internments from this cemetery prior to the inundation of Kaw Lake. In 1997, human remains representing one individual and funerary objects including one lot of coffin hardware were collected from the site of the original Washunga Cemetery, now located along the shoreline of Kaw Lake. Currently the individual and all funerary objects are located at the Tulsa District Archaeological Repository.

Determinations

The USACE Tulsa has determined that:

• The human remains described in this notice represent the physical remains of one individual of Native American ancestry.

• The one lot of objects described in this notice are reasonably believed to have been placed intentionally with or near individual human remains at the time of death or later as part of the death rite or ceremony.

• The Kaw Nation, Oklahoma has priority for disposition of the human remains and associated funerary objects described in this notice.

Claims for Disposition

Written claims for disposition of the human remains and associated funerary objects in this notice must be sent to the appropriate official identified in this notice under ADDRESSES. If no claim for disposition is received by January 20, 2026, the human remains and associated funerary objects in this notice will become unclaimed human remains and associated funerary objects. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains and associated funerary objects in this notice may occur on or after February 18, 2025. If competing claims for disposition are received, the USACE Tulsa must determine the most appropriate claimant prior to disposition. Requests for joint disposition of the human remains and associated funerary objects are considered a single request and not competing requests. The USACE Tulsa is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: January 13, 2025.
Melanie O'Brien,
Manager, National NAGPRA Program.

[FR Doc. 2025-01189 Filed 1-16-25; 8:45 am]

BILLING CODE 4312-52-P